Title 3—

The President

Proclamation 7494 of November 9, 2001

National Employer Support of the Guard and Reserve Week, 2001

By the President of the United States of America

A Proclamation

Our National Guard and Reserve forces play a vital role in helping America respond when our interests are threatened around the world. They are an indispensable part of our Nation's efforts to promote democracy, peace, and freedom, and, in the wake of the September 11 attacks, National Guard and Reserve units are deploying to help fight and win the war against terrorism.

Americans understand and appreciate the importance of our National Guard and Reserve forces, but many do not know the contributions their employers make in supporting these civilian soldiers. Employers share their greatest resource, their people; and, in so doing, they subordinate their own interests for the good of our country. Employers' willingness to sacrifice and bear the inevitable financial hardships and organizational disruptions that result are important contributions to our Nation's war against terrorism. By placing America's well-being above their own, they help our National Guard and Reserve units provide mission-ready forces to help preserve our freedoms and protect our national interests.

Because this generosity enables Guard and Reserve troops to play an essential role in responding to the terrorist attacks, it is appropriate to honor the sacrifice American businesses are making in releasing their employees for military service. We express our heartfelt appreciation to these patriots for the burden they bear as their workers depart to serve our Nation and help keep America strong, secure, and free.

NOW, THEREFORE, I, GEORGE W. BUSH, President of the United States of America, by virtue of the authority vested in me by the Constitution and the laws of the United States, do hereby proclaim the week beginning November 11, 2001, as National Employer Support of the Guard and Reserve Week. I encourage all Americans to join me in expressing our heartfelt thanks to the civilian employers of the members of our National Guard and Reserve for their extraordinary sacrifices on behalf of our Nation. I also call upon State and local officials, private organizations, businesses, and all military commanders to observe this week with appropriate ceremonies and activities.

IN WITNESS WHEREOF, I have hereunto set my hand this ninth day of November, in the year of our Lord two thousand one, and of the Independence of the United States of America the two hundred and twenty-sixth.

B

[FR Doc. 01-28799

Filed 11-14-01; 8:45 am]

Billing code 3195-01-P